DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Groundfish Trawl Fishery Monitoring and Catch Accounting Program.

OMB Control Number: 0648-0619.

Form Number(s): None.

Type of Request: Regular (revision and extension of a currently approved information collection).

Number of Respondents: 153.

Average Hours per Response: 10 hours for a Provider permit, 2 hours for an annual renewal, 4 hours each for appeals and catch monitoring plans; 2 hours for an inspection; 10 minutes for first receiver reports; 1 minute for Pacific whiting disposition recordkeeping; 30 minutes for daily at-sea scale testing reports, 10 minutes for daily at-sea scale catch and cumulative weight reports, 1 minute each for at-sea scale audit trail, at-sea scale calibration log, and at-sea scale fault log, and 0 minutes for at-sea scale video monitoring.

Burden Hours: 447.

Needs and Uses: This request is for revision and extension of a currently approved information collection.

In January 2011, the National Oceanic and Atmospheric Administration's (NOAA) National Marine Fisheries Service (NMFS) implemented a trawl rationalization program, a catch share program, for the Pacific coast groundfish fishery's trawl fleet. The program was developed through Amendment 20 to the Groundfish Fishery Management Plan (FMP), under the authority of the Magnuson-Stevens Fishery Conservation and Management Act (16 U.S.C. 1801 et seq.) and consists of an individual fishing quota (IFQ) program for the shorebased trawl fleet (including whiting and non-whiting fisheries); and cooperative (coop) programs for the at-sea mothership (MS) and catcher/processor (C/P) trawl fleets (whiting only). Fixed allocations to the limited entry trawl fleet were developed through a parallel process with Amendment 21 to the FMP. The regulations implementing the program were effective January 1, 2011; all of the necessary tracking systems to make the program operational became active on January 11, 2011, the date fishing began under the new program. Since that time, the Council and NMFS have been addressing implementation issues as they arise. To achieve individual accountability for catch and bycatch and track total catch, the shorebased IFQ Program is subject to 100 percent monitoring both at-sea and dockside. In addition to 100 percent monitoring at-sea, motherships and catcher/processors are subject to flow scale requirements that include daily testing, reporting, and an annual inspection.

Several of the information collections have been merged into other information collections (OMB Control No. 0648-0620 and OMB Control No. 0648-0738) where they have a better fit, and thus the burden and cost for this collection has decreased.

Affected Public: Business or other for-profit organizations; individuals or households.

Frequency: Daily, weekly, on occasion, annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 16, 2018.
Sarah Brabson,
NOAA PRA Clearance Officer.

[FR Doc. 2018-08247 Filed 4-19-18; 8:45 am]

BILLING CODE 3510-22-P